DEPARTMENT OF COMMERCE

International Trade Administration

[A-552-812]

Steel Wire Garment Hangers From the Socialist Republic of Vietnam: Rescission of Antidumping Duty Administrative Review; 2017-2018

AGENCY: Enforcement and Compliance, International Trade Administration, Department of Commerce.

SUMMARY: The Department of Commerce (Commerce) is rescinding the administrative review of the antidumping duty (AD) order on steel wire garment hangers from the Socialist Republic of Vietnam (Vietnam) for the period of review (POR) February 1, 2017, through January 31, 2018.

DATES: Applicable May 7, 2018.

FOR FURTHER INFORMATION CONTACT: Trenton Duncan or Kabir Archuletta, AD/CVD Operations, Office V, Enforcement and Compliance, International Trade Administration, U.S. Department of Commerce, 1401 Constitution Avenue NW, Washington, DC 20230; telephone: (202) 482-3539 or (202) 482-2593, respectively.

Background

On February 1, 2018, Commerce published in the Federal Register a notice of opportunity to request an administrative review of the AD order on steel wire garment hangers from Vietnam for the period February 1, 2017, through January 31, 2018.¹ On February 28, 2018, M&B Metal Products Company, Inc. (the petitioner), timely requested a review of the AD order with respect to 66 companies.² On April 16, 2018, Commerce initiated an administrative review with respect to these companies, in accordance with section 751(a) of the Tariff Act of 1930, as amended (the Act) and 19 CFR 351.221(c)(1)(i).³ On April 24, 2018, the petitioner timely withdrew its request for an administrative review of all 66 companies listed in the Initiation Notice.⁴ No other party requested a review of these exporters or any other exporters of subject merchandise.

¹ See Antidumping or Countervailing Duty Order, Finding, or Suspended Investigation; Opportunity to Request Administrative Review, 83 FR 4639 (February 1, 2018).

² See Petitioner's Letter, “Steel Wire Garment Hangers from Vietnam: Request for Fifth Administrative Review,” dated February 28, 2018.

³ See Initiation of Antidumping and Countervailing Duty Administrative Reviews, 83 FR 16298 (April 16, 2018) (Initiation Notice).

⁴ See Petitioner's Letter, “Fifth Administrative Review of Steel Wire Garment Hangers from Vietnam—Petitioner's Withdrawal of Review Request,” dated April 24, 2018.

Rescission of Review

Pursuant to 19 CFR 351.213(d)(1), Commerce will rescind an administrative review, in whole or in part, if the party that requested the review withdraws its request within 90 days of the publication date of the notice of initiation of the requested review. In this case, the petitioner timely withdrew its requests for review within the 90-day deadline. Because Commerce received no other requests for review of the above-referenced companies, and no other requests were made for a review of the AD order on steel wire garment hangers from Vietnam with respect to other companies, we are rescinding the administrative review covering the period February 1, 2017, through January 31, 2018, in its entirety, in accordance with 19 CFR 351.213(d)(1).

Assessment

Commerce will instruct U.S. Customs and Border Protection (CBP) to assess antidumping duties on all appropriate entries of steel wire garment hangers from Vietnam during the POR at rates equal to the cash deposit rate for estimated antidumping duties required at the time of entry, or withdrawal from warehouse, for consumption, in accordance with 19 CFR 351.212(c)(1)(i). Commerce intends to issue appropriate assessment instructions to CBP 15 days after publication of this notice in the Federal Register.

Notification to Importers

This notice serves as the only reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Order

This notice also serves as the only reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

This notice is issued and published in accordance with sections 751(a)(1) and 777(i)(1) of the Act and 19 CFR 351.213(d)(4).

Dated: May 1, 2018.
James Maeder,
Associate Deputy Assistant Secretary for Antidumping and Countervailing Duty Operations performing the duties of Deputy Assistant Secretary for Antidumping and Countervailing Duty Operations.

[FR Doc. 2018-09630 Filed 5-4-18; 8:45 am]

BILLING CODE 3510-DS-P